DEPARTMENT OF ENERGY

Federal Energy Regulatory Commission

Privacy Act of 1974: Notice of New System of Records

October 29, 2009.

AGENCY: Federal Energy Regulatory Commission, DOE.

ACTION: Notice of new system of records.

SUMMARY: The Federal Energy Regulatory Commission (the Commission), under the requirements of the Privacy Act of 1974, 5 U.S.C. 552a, is publishing a description of a new system of records.

ADDRESSES: Comments and requests for further information should be directed to the following address: Director, Division of Payroll, Application and Integration, Office of the Executive Director, Federal Energy Regulatory Commission, 888 First Street, NE., Washington, DC 20426.

FOR FURTHER INFORMATION CONTACT: Jennifer Nye, Director, Division of Payroll, Application and Integration, Office of the Executive Director, 888 First Street, NE., Washington, DC 20426, (202) 502-6679.

SUPPLEMENTARY INFORMATION:

I. Report on the New System

A. Background

The Privacy Act of 1974, 5 U.S.C. 552a, requires that each agency publish a notice of the existence and character of each new or altered “system of records.” 5 U.S.C. 552a(a)(5). This Notice identifies and describes the Commission's new system of records. A copy of this report has been distributed to the Speaker of the House of Representatives and the President of the Senate as the Act requires. The Commission has adopted a new system of records under the Privacy Act of 1974. This system does not duplicate any existing agency system. The notice includes for the system of records the name; location; categories of individuals on whom the records are maintained; categories of records in the system; authority for maintenance of the system; each routine use; the policies and practices governing storage, retrievability, access controls, retention and disposal; the title and business address of the agency official responsible for the system of records; procedures for notification, access and contesting the records of each system; and the sources for the records in the system. 5 U.S.C. 552(a)(4).

B. New System of Records

FERC-57 FEDERAL PERSONNEL AND PAYROLL SYSTEM (FPPS)

FERC-57 SYSTEM NAME:

Federal Personnel and Payroll System (FPPS).

SECURITY CLASSIFCATION:

Unclassified.

SYSTEM LOCATION:

Automated personnel records are maintained in the Federal Personnel Payroll System (FPPS) managed by the National Business Center, U.S. Department of the Interior, 7301 West Mansfield Avenue, MS D-2400, Denver, CO 80235.

CATEGORIES OF INDIVIDUALS COVERED BY THE SYSTEM:

Current and former employees.

CATEGORIES OF RECORDS IN THE SYSTEM:

Employee name, employee address, employee phone numbers, employee emergency contact information (including name, address and phone number), employee Social Security Number and organizational code; employee common identifier (ECI), pay rate, grade, length of service, individual's pay and leave records; source documents for posting time and leave attendance; allowances, and cost distribution records; deductions for Medicare, Old Age, Survivors, and Disability Insurance (OASDI, also known as Social Security), bonds, Federal Employees Group Life Insurance (FEGLI), union dues, taxes, allotments, quarters, retirement, charities, health benefits, Flexible Spending Account, Long Term Care, Thrift Savings Fund contributions, awards, shift schedules, and pay differentials, tax lien data, commercial garnishments, child support and/or alimony wage assignments; and related payroll and personnel data. Also included is information on debts owed to the government as a result of overpayment, refunds owed, or a debt referred for collection on a transferred employee or emergency worker. The payroll, attendance, retirement, and leave records described in this notice form a part of the information contained in the Department of the Interior's integrated Federal Personnel and Payroll System (FPPS). Personnel records contained in the FPPS are covered under the government-wide system of records notice published by the Office of Personnel Management (OPM/GOVT-1) and the Department-wide system of records notice, DOI-79, “Interior Personnel Records”.

AUTHORITY FOR MAINTENANCE OF THE SYSTEM:

5 U.S.C. 2951, 5 U.S.C. 5101, et seq.

ROUTINE USES OF RECORDS MAINTAINED IN THE SYSTEM, INCLUDING CATEGORIES OF USERS AND THE PURPOSES OF SUCH USES:

The official personnel records provide basic data for preparation and verification of personnel reports and documents. They also provide a comprehensive and continuing record of each employee's service, status, skills, and personnel history, for use in the merit promotion program, reduction in force program, and to effect other personnel actions. Automated records are used to generate reports and listings, produce standard personnel management documents, establish and verify entitlements to pay and benefits, and provide historical data. The payroll, attendance, and leave records provide for fiscal operations for payroll, time and attendance, leave, insurance, tax, retirement, debt, budget, and cost accounting programs; to prepare related reports to FERC's parent agency, the Department of Energy; and other Federal agencies including the Department of the Treasury and the Office of Personnel Management; for reporting purposes by the FERC; and for human capital management purposes.

Disclosure outside the FERC may be made to the Commission's parent agency, the Department of Energy (DOE) for reporting purposes; as well as individuals, entities, and agencies identified in:

(a) Payroll, Attendance, Retirement, and Leave Records—Interior, DOI-85.

(b) Interior Personnel Records—Interior, DOI-79.

(c) General Personnel Records—OPM, OPM/GOVT-1.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Act of 1966 (31 U.S.C. 3701(a)(3)).

POLICIES AND PRACTICES FOR STORING, RETRIEVING, ACCESSING, RETAINING, AND DISPOSING OF RECORDS IN THE SYSTEM:

STORAGE:

Records are stored in paper and electronic file folders, on lists and forms, and in electronic storage media.

RETRIEVABILITY:

Records may be retrieved by employee identification such as name, Social Security Number, common identifier, birthday, organizational code, etc.

SAFEGUARDS:

Access to records covered by the system will be permitted only to authorized personnel in accordance with requirements found in the Departmental Privacy Act regulations (43 CFR 2.51). Paper or micro format records are maintained in locked metal file cabinets or in secured rooms. Electronic records are maintained with safeguards meeting the security requirements of 43 CFR 2.51 for automated records, which conform to Office of Management and Budget and Departmental guidelines reflecting the implementation of the Federal Information Security Management Act. The electronic data are protected through user identification, passwords, database permissions, encryption and software controls. Such security measures establish different degrees of access for different types of users. An audit trail is maintained and reviewed periodically to identify unauthorized access. A Privacy Impact Assessment was completed and is updated at least annually to ensure that Privacy Act requirements and personally identifiable information safeguard requirements are met.

RETENTION AND DISPOSAL:

The records contained in this system of records have varying retention periods as described in the General Records Schedule, Sections 1, 2, and 20, (at http://www.archives.gov), issued by the Archivist of the United States, and are disposed of in accordance with the National Archives and Records Administration Regulations, 36 CFR part 1228 et seq. The records are also covered by item 7551 of the Department of the Interior, Office of the Secretary's pending records schedule.

SYSTEM MANAGER(S) AND ADDRESS:

The following system manager is responsible for the payroll records contained in the FPPS system: Director, Human Resources Division, Office of the Executive Director, Federal Energy Regulatory Commission, 888 First Street, NE., Washington, DC 20426, (202) 502-6088. Personnel records contained in the system fall under the jurisdiction of the Office of Personnel Management as prescribed in 5 CFR part 253 and 5 CFR part 297.

NOTIFICATION PROCEDURE:

A request for record access should be addressed to the System Manager. The request must be in writing, signed by the requester, and meet the requirements of 43 CFR 2.63.

RECORD ACCESS PROCEDURES:

Same as notification procedure above.

CONTESTING RECORD PROCEDURES:

A petition for amendment should be addressed to the System Manager. The request must be in writing, signed by the requester, and meet the content requirements of 43 CFR 2.71.

RECORD SOURCE CATEGORIES:

The source data for the system comes from individuals on whom the records are maintained, official personnel records of individuals on whom the records are maintained, supervisors, timekeepers, previous employers, the Internal Revenue Service and state tax agencies, the Department of the Treasury, other Federal agencies, courts, State child support agencies, employing agency accounting offices, and third-party benefit providers.

EXEMPTIONS CLAIMED FOR THE SYSTEM:

None.

Kimberly D. Bose,
Secretary.

[FR Doc. E9-26630 Filed 11-4-09; 8:45 am]

BILLING CODE 6717-01-P